FEDERAL COMMUNICATIONS COMMISSION

47 CFR Part 1

[GC Docket No. 20-221; FCC 20-92; FRS 17053]

Updating the Commission's Ex Parte Rules; Correction

AGENCY: Federal Communications Commission

ACTION: Proposed rule; correction.

SUMMARY: In this document, the Commission is correcting a date that appeared in the Federal Register on September 2, 2020. In this document, the Commission begins a new proceeding to consider several updates to the Commission's ex parte rules. First, the Commission seeks comment on a proposal to exempt from its ex parte rules, in certain proceedings, government-to-government consultations between the Commission and federally recognized Tribal Nations. Second, the Commission seeks comment on a proposal to extend the exemption to its ex parte rules for communications with certain program administrators, such as the Universal Service Administrative Company, to include the Toll-Free Numbering Administrator and the Reassigned Numbers Database Administrator, and to clarify the conditions under which this exemption applies. Third, the Commission seeks comment on a proposal to require that all written ex parte presentations and written summaries of oral ex parte presentations (other than presentations that are permitted during the Sunshine period) be submitted before the Sunshine period begins and to require that replies to these ex parte presentations be filed within the first day of the Sunshine period. The document contained incorrect dates.

FOR FURTHER INFORMATION CONTACT: Mr. Max Staloff of the Office of General Counsel, at (202) 418-1764, or Max.Staloff@fcc.gov.

SUPPLEMENTARY INFORMATION:

Correction

In the Federal Register of September 2, 2020 in FR Doc. 20-17266, on page 54523, in the second column, correct the Dates caption to read:

DATES: Comments due on or before October 2, 2020; reply comments due on or before October 19, 2020.

Dated: September 2, 2020.
Federal Communications Commission.
Marlene Dortch,
Secretary.

[FR Doc. 2020-19949 Filed 9-16-20; 8:45 am]

BILLING CODE 6712-01-P